DEPARTMENT OF ENERGY

Federal Energy Regulatory Commission

[Docket No. RP04-276-000]

Southern Star Central Gas Pipeline, Inc.; Notice of Proposed Changes in FERC Gas Tariff

May 5, 2004.

Take notice that on April 30, 2004, Southern Star Central Gas Pipeline, Inc. (SSC) tendered for filing as part of its FERC Gas Tariff, Original First Revised Volume No. 1 and Original Volume No. 2, the tariff sheets listed in Appendix A to the filing, with an effective date of June 1, 2004.

SSC states that the revisions reflected in the tariff sheets identified in Appendix A effectuate changes in the rates and terms applicable to SSC's jurisdictional services. SSC states that the proposed new rates would produce an increase in annual revenue of approximately $49.4 million above the revenue collected during the base period.

SSC further states that the general rate increase submitted herein is designed to permit SSC to recover various substantial cost increases, primarily related to new construction projects and investment in facilities, experienced by the Company, as well as to reflect changes in the mix of the services being rendered by the Company, since its last general rate filing in Docket No. RP95-136.

SSC states that it has served copies of this filing upon all affected customers and interested state commissions.

Any person desiring to be heard or to protest said filing should file a motion to intervene or a protest with the Federal Energy Regulatory Commission, 888 First Street, NE., Washington, DC 20426, in accordance with § 385.214 or § 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Linda Mitry,
Acting Secretary.

[FR Doc. E4-1122 Filed 5-12-04; 8:45 am]

BILLING CODE 6717-01-P